DEPARTMENT OF COMMERCE

National Oceanic and Atmospheric Administration

50 CFR Part 300

[Docket No. 080515668-8669-01]

RIN 0648-AW82

Pacific Halibut Fisheries; Guideline Harvest Levels for the Guided Recreational Halibut Fishery; Correction

AGENCY: National Marine Fisheries Service (NMFS), National Oceanic and Atmospheric Administration (NOAA), Commerce.

ACTION: Final rule; correcting amendments.

SUMMARY: This action corrects the regulatory text of a final rule published on August 8, 2003 (68 FR 47256), that implemented guideline harvest levels (GHLs) for the guided sport charter vessel fishery in the International Pacific Halibut Commission Regulatory Areas 2C and 3A. The table of GHLs as they relate to the total constant exploitation yield contains errors in the conversions from pounds to metric tons, and rounding errors for some metric equivalents. This action is necessary to correct the errors in that table.

DATES: Effective May 28, 2008.

FOR FURTHER INFORMATION CONTACT: Julie Scheurer, (907) 586-7356.

SUPPLEMENTARY INFORMATION: A final rule published August 8, 2003 (68 FR 47256, RIN 0648-AK17), implemented guideline harvest level (GHL) measures for managing the harvest of Pacific halibut (Hippoglossus stenolepis) in the charter sport fishery in International Pacific Halibut Commission (IPHC) Regulatory Areas 2C and 3A in and off Alaska. This correcting amendment revises the table at 50 CFR 300.65(c)(1) that lists GHLs corresponding to different levels of the total constant exploitation yield set annually by the IPHC.

Need for Correction

The table at § 300.65(c)(1) contains three metric conversion errors, several rounding errors, and missing paragraph designations. Paragraphs (c)(1)(i) through (v) refer to different benchmark levels for the total constant exploitation yield for Area 2C. There are no similar paragraph designations for the benchmark levels for Area 3A. Paragraph designations are added for the Area 3A table entries for consistency. This final rule corrects the conversion to metric equivalent errors and rounding errors, adds new paragraph designations to paragraph (c)(1), and reorganizes the table into two columns instead of four for clarity and ease of reading.

Classification

Pursuant to 5 U.S.C. 553(b)(B), the Acting Assistant Administrator for Fisheries finds there is good cause to waive prior notice and an opportunity for public comment on this action, as notice and comment would be unnecessary. Notice and comment are unnecessary because this action makes only minor, non-substantive changes to the metric equivalents for the GHLs, and reorganizes the table to make it easier to read and understand. The IPHC conducts its analyses and sets limits using pounds. Likewise, Canadian and U.S. management agencies use pounds to measure and report halibut catch information. These corrections will not affect the results of analyses conducted to support management decisions in the halibut fishery nor change the total catch of halibut in the charter halibut fishery. This rule does not make any substantive change in the rights and obligations of charter vessel anglers managed under the GHL halibut regulations. No aspect of this action is controversial and no change in operating practices in the fishery is required. NMFS therefore determines that APA requirements for public notice and comment are unnecessary for this action and determines that this rule is not subject to the 30-day delay in effectiveness requirement at 5 U.S.C. 553(d).

This final rule complies with the Halibut Act and the North Pacific Fishery Management Council's authority to implement allocation measures for the management of the halibut fishery.

List of Subjects in 50 CFR Part 300

Fisheries, Fishing, Reporting and recordkeeping requirements, Treaties.

Dated: May 21, 2008.
Samuel D. Rauch III
Deputy Assistant Administrator for Regulatory Programs, National Marine Fisheries Service.

For the reasons set out in the preamble, 50 CFR part 300 is corrected as follows:

PART 300—INTERNATIONAL FISHERIES REGULATIONS

1. The authority citation for 50 CFR part 300, subpart E, continues to read as follows:

Authority: 16 U.S.C. 773-773k.

2. In § 300.65, paragraph (c)(1) is revised to read as follows:

§ 300.65 Catch sharing plan and domestic management measures in waters in and off Alaska.

(c) * * *

(1) The annual GHLs for Regulatory Areas 2C and 3A are determined as follows:

If the Annual Total Constant Exploitation Yield for Halibut is More Than: | Then the GHL will be:
(i) Regulatory Area 2C
(A) 9,027,000 lb (4,094.6 mt) | 1,432,000 lb (649.5 mt)
(B) 7,965,000 lb (3,612.9 mt) | 1,217,000 lb (552.0 mt)
(C) 6,903,000 lb (3,131.1 mt) | 1,074,000 lb (487.2 mt)
(D) 5,841,000 lb (2,649.4 mt) | 931,000 lb (422.3 mt)
(E) 4,779,000 lb (2,167.7 mt) | 788,000 lb (357.4 mt)
(ii) Regulatory Area 3A
(A) 21,581,000 lb (9,789.0 mt) | 3,650,000 lb (1,655.6 mt)
(B) 19,042,000 lb (8,637.3 mt) | 3,103,000 lb (1,407.5 mt)
(C) 16,504,000 lb (7,486.1 mt) | 2,734,000 lb (1,240.1 mt)
(D) 13,964,000 lb (6,334.0 mt) | 2,373,000 lb (1,076.4 mt)
(E) 11,425,000 lb (5,182.3 mt) | 2,008,000 lb (910.8 mt)

[FR Doc. E8-11881 Filed 5-27-08; 8:45 am]

BILLING CODE 3510-22-S